DEPARTMENT OF TRANSPORTATION

Federal Aviation Administration

Receipt of Noise Compatibility Program and Request for Review for Lanai Airport, Lanai City, Lanai, Hawaii

AGENCY: Federal Aviation Administration.

ACTION: Notice.

SUMMARY: The Federal Aviation Administration (FAA) announces that it is reviewing a proposed noise compatibility program that was submitted for Lanai Airport under the provisions of Title I of the Aviation Safety and Noise Abatement Act of 1979 (Public Law 96-193) (hereinafter referred to as “the Act”) and 14 CFR part 150, by the state of Hawaii, Department of Transportation. This program was submitted subsequent to a determination by the FAA that the associated noise exposure maps submitted under 14 CFR part 150 for Lanai Airport were in compliance with applicable requirements effective December 23, 1999. The proposed noise compatibility program will be approved or disapproved on or before November 27, 2000.

EFFECTIVE DATE: The effective date of the start of FAA's review of the noise compatibility program is May 31, 2000. The public comment period ends on July 31, 2000.

FOR FURTHER INFORMATION CONTACT: David J. Welhouse, Airport Planner, Federal Aviation Administration, Honolulu Airports District Office, P.O. Box 50244, Honolulu, Hawaii 96850-0001, Telephone 808/541-1243, Street Address: Federal Building, 300 Ala Moana Boulevard, Room 7-128, Honolulu, Hawaii, 96813. Comments on the proposed noise compatibility program should also be submitted to the above office.

SUPPLEMENTARY INFORMATION: This notice announces that the FAA is reviewing a proposed noise compatibility program for Lanai Airport, which will be approved or disapproved on or before November 27, 2000. This notice also announces the availability of this program for public review and comment.

An airport operator who has submitted noise exposure maps that are found by FAA to be in compliance with the requirements of Federal Aviation Regulations (FAR) Part 150, promulgated pursuant to Title I of the Act, may submit a noise compatibility program for FAA approval which sets forth the measures the operator has taken or proposes for the reduction of existing noncompatible uses and for the prevention of the introduction of additional noncompatible uses.

The FAA has formally received the noise compatibility program for Lanai Airport, effective on May 31, 2000. It was requested that the FAA review this material and that the noise mitigation measures, to be implemented jointly by the airport and surrounding communities, be approved as a noise compatibility program under section 104(b) of the Act. Preliminary review of the submitted material indicates that it conforms to the requirements for the submittal of noise compatibility programs, but that further review will be necessary prior to approval or disapproval of the program. The formal review period, limited by law to a maximum of 180 days, will be completed on or before November 27, 2000.

The FAA's detailed evaluation will be conducted under the provisions of 14 CFR part 150, section 150.33. The primary considerations in the evaluation process are whether the proposed measures may reduce the level of aviation safety, create an undue burden on interstate or foreign commerce, or be reasonably consistent with obtaining the goal of reducing existing noncompatible land uses and preventing the introduction of additional noncompatible land uses.

Interested persons are invited to comment on the proposed program with specific reference to these factors. All comments, other than those properly addressed to local land use authorities, will be considered by the FAA to the extent practicable. Copies of the noise exposure maps, the FAA's evaluation of the maps, and the proposed noise and compatibility program are available for examination at the following locations:

Federal Aviation Administration

National Headquarters, Community and Environmental Needs Division, 800 Independence Avenue, SW., Room 621, Washington, D.C. 20591

Federal Aviation Administration, Western-Pacific Region Office, 15000 Aviation Boulevard, Room 3012, Hawthorne, California 90261

Federal Aviation Administration, Honolulu Airports District Office, Federal Building, 300 Ala Monana Boulevard, Room 7-128, Honolulu, Hawaii 96813

State of Hawaii

Department of Transportation, Airports Division, District Office Manager, Kahului Airport, Kahului, Maui, Hawaii 96732

Questions may be directed to the individual named above under the heading FOR FURTHER INFORMATION CONTACT.

Issued in Hawthorne, California on May 31, 2000.
Herman C. Bliss,
Manager, Airports Division, Western-Pacific Region, AWP-600.

[FR Doc. 00-15215 Filed 6-15-00; 8:45 am]

BILLING CODE 4910-13-M